DEPARTMENT OF COMMERCE

Foreign-Trade Zones Board

[Docket 26-2010]

Foreign-Trade Zone 126—Reno, NV, Application for Reorganization/Expansion Under Alternative Site Framework

An application has been submitted to the Foreign-Trade Zones (FTZ) Board (the Board) by the Economic Development Authority of Western Nevada, grantee of FTZ 126, requesting authority to reorganize and expand the zone under the alternative site framework (ASF) adopted by the Board (74 FR 1170, 1/12/09; correction 74 FR 3987, 1/22/09). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on April 19, 2010.

FTZ 126 was approved by the Board on April 4, 1986 (Board Order 328, 51 FR 12904, 04/16/1986) and expanded on February 25, 1997 (Board Order 872, 62 FR 10520, 03/07/1997), on December 15, 1999 (Board Order 1066, 64 FR 72642, 12/28/1999), and, on March 12, 2007 (Board Order 1506, 72 FR 13080, 03/20/2007).

The current zone project includes the following sites: Site 1 (13.9 acres)—728 Spice Island Drive, Sparks; Site 2 (9 acres)—450-475 Lillard Drive, Sparks; Site 3 (26 acres)—205 Parr Boulevard, 345 and 365 Parr Circle, Reno; Site 4 (200 acres, sunset 03/31/12)—within the 5,000-acre Crossroads Commerce Center at Nevada Pacific Parkway and East Newlands Drive, Fernly; Site 5 (20 acres, sunset 03/31/12)—within the 110-acre Fernly Industrial Park at Lyon Drive and Industrial Drive, Fernly; Site 6 (622 acres, sunset 03/31/12)—within the Tahoe Industrial Center southwest of Denmark and USA Parkway, Patrick; Site 7 (38 acres, sunset 03/31/12)—Reno Stead Airport, 14551 Industry Circle and 4895 Texas Avenue, Reno; Site 8 (53 acres, sunset 03/31/12)—within the Sage Point Business Park at Lear Boulevard and Military Road, Reno; Site 9 (25 acres, sunset 03/31/12)—within the Dermody Business Park at 5360 Capital Court and 1312 and 1316 Capital Boulevard, Reno; Site 10 (10 acres, sunset 03/31/12)—within the 180-acre Dermody Aircenter at 4879 Aircenter Circle and 4750 Longley Lane, Reno; Site 11 (18 acres, sunset 03/31/12)—45 Vista Boulevard, Sparks; Site 12 (100 acres, sunset 03/31/12)—within the South Meadows Business Park at 1150, 1160, 1170, 1175, 1190 and 1195 Trademark Drive, Reno; Site 13 (10 acres, sunset 03/31/12)—within the Reno Tahoe International Airport at 700 South Rock Boulevard, Reno; Site 14 (0.4 acres)—1095 Spice Island Drive, Sparks; Site 15 (0.7 acres)—1415 Greg Street, Sparks; Site 16 (4 acres)—800 Stillwell Road, Reno; and, Site 17 (146 acres, sunset 03/31/12)—within the Patrick Business Park on Waltham Way, Patrick.

The grantee's proposed service area under the ASF would be all of Carson City, Douglas and Storey Counties as well as portions of Churchill, Lyon and Washoe Counties, Nevada, as described in the application. If approved, the grantee would be able to serve sites throughout the service area based on companies' needs for FTZ designation. The proposed service area is within and adjacent to the Reno, Nevada Customs and Border Protection port of entry.

The applicant is requesting authority to reorganize its existing zone project to include thirteen of the existing sites as “magnet” sites (sites 1, 4-14, 17) and four of the existing sites as “usage-driven” sites (sites 2, 3, 15, 16). The ASF allows for the possible exemption of one magnet site from the “sunset” time limits that generally apply to sites under the ASF, and the applicant proposes that Site 6 be so exempted. The applicant is also requesting to expand the zone to include the following “usage-driven” sites: Proposed Site 18 (12.68 acres)—Eastman Kodak Company, 12035 Moya Boulevard, Reno (Washoe County); and, Proposed Site 19 (6.64 acres)—Randa Logistics, 201 Ireland Drive, McCarran (Storey County). Because the ASF only pertains to establishing or reorganizing a general-purpose zone, the application would have no impact on FTZ 126's authorized subzones.

In accordance with the Board's regulations, Christopher Kemp of the FTZ Staff is designated examiner to evaluate and analyze the facts and information presented in the application and case record and to report findings and recommendations to the Board.

Public comment is invited from interested parties. Submissions (original and 3 copies) shall be addressed to the Board's Executive Secretary at the address below. The closing period for their receipt is June 25, 2010. Rebuttal comments in response to material submitted during the foregoing period may be submitted during the subsequent 15-day period to July 12, 2010.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Christopher Kemp at Christopher.Kemp@trade.gov or (202) 482-0862.

Dated: April 19, 2010.
Andrew McGilvray,
Executive Secretary.

[FR Doc. 2010-9621 Filed 4-23-10; 8:45 am]

BILLING CODE 3510-DS-P